ENVIRONMENTAL PROTECTION AGENCY

[OA-2005-0004, FRL-7993-8]

Agency Information Collection Activities: Proposed Collection; Comment Request; Focus Groups as Used by EPA for Economics Projects, EPA ICR Number 2205.01

AGENCY: Environmental Protection Agency.

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before January 3, 2006.

ADDRESSES: Submit your comments, referencing docket ID number OA-2005-0004, to EPA online using EDOCKET (our preferred method), by e-mail oei.docket@epa.gov, or by mail to: Environmental Protection Agency, EPA Docket Center (EPA/DC), Office of Environmental Information, Mail Code 2822T, 1200 Pennsylvania Avenue, NW., Washington, DC 20460.

FOR FURTHER INFORMATION CONTACT: Nathalie Simon, Office of Policy, Economics and Innovation, Mail Code 1809T, Environmental Protection Agency, 1200 Pennsylvania Avenue, NW., Washington, DC 20460; telephone number: 202-566-2347; fax 202-566-2363; e-mail address: simon.nathalie@epa.gov.

SUPPLEMENTARY INFORMATION: EPA has established a public docket for this ICR under Docket ID number OA-2005-0004, which is available for public viewing at the Office of Environmental Information (OEI) Docket in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Office of Environmental Information (OEI) Docket is (202) 566-1752. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Title: Focus Groups as used by EPA for Economics Projects.

Abstract: The Environmental Protection Agency (EPA) is seeking approval for a generic information collection request (ICR) for the conduct of focus groups and protocol interview (hereafter jointly referred to as focus groups) related to economics projects. Over the next three years, the Agency anticipates embarking on a number of survey development efforts associated with a variety of economics projects including those related to valuation of ecosystems, children's health risks, improvements to coastal waters, and invasive species to name a few. Focus groups are an important part of any survey development process, allowing for researchers to directly gauge what specific issues are important to the public and providing a means for explicitly testing draft survey materials. Through these focus groups, the Agency will be able to gain a more in-depth understanding of the public's attitudes, beliefs, motivations and feelings regarding specific issues and will provide valuable information regarding the quality of draft survey instruments.

The information collected in the focus groups will be used to develop and improve economics-related surveys. To the extent that these surveys are ultimately successfully administered, they will serve to expand the Agencies understanding of benefits and costs of a variety of actions and could provide the means to quantitatively assess the effects of others. Participation in the focus groups will be voluntary and the identity of the participants will be kept confidential.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The only burden imposed by the focus group interviews on respondents will be the time required to participate in the focus groups and answer the associated questions. The Agency estimates that for economics projects anticipated over the next three years, 1758 participants will be needed to participate in 188 focus groups. In most cases, the anticipated length of the focus groups is 2.0 hours per participant, with the average length per focus group equal to 2.4 hours. Based on an average hourly rate of $25.87 ᵃ (including employer costs of all employee benefits), the Agency expects that the average per-respondent cost for the focus groups will be $62.09 and the corresponding one-time total cost to all respondents will be $109,151 (see table below). Since this information collection is voluntary and does not involve any special equipment, respondents will not incur any capital or operation and maintenance (O&M) costs.

ᵃ Employer costs per hour worked for employee compensation and costs as a percent of total compensation: Civilian workers, total compensation, March 2005 (http://stats.bls.gov/news.release/ecec.t02.htm).

Table.—Estimated Burden to Participants
Office | Topics to include | Number of focus groups | Number of participants per focus group | Average length of focus group
(1) | (2) | (3) | (4) | (5)
Office of Policy Economics and Innovation | Valuation of Improvements to Coastal Water; Valuation of Children's Health Risk, Ecological Valuation, etc | 48 | 9 | 2
Office of Research and Development | Valuation of environmental improvements; ecosystem services, etc | 70 | 9 | 2.1
Office of Air and Radiation
Office of Radiation and Indoor Air | Environmental management of asthma; Indoor air quality management in schools and large buildings, etc | 6 | 20 | 4
Office of Transportation and Air Quality | Encouraging fuel efficiency through labeling (Smartway brand), etc | 4 | 9 | 2
Office of Water | Invasive species prevention; Great Lakes, etc | 60 | 9 | 3
Total |  | 188 | *1758 | **2.4
*Total needed for all focus groups [sum[col (3)*(4)]].
**Average time for all focus groups [cols. (3)*(5)/188].

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: September 26, 2005.
Al McGartland,
Office Director, National Center for Environmental Economics, Office of Policy, Economics and Innovation.

[FR Doc. 05-22035 Filed 11-3-05; 8:45 am]

BILLING CODE 6560-50-P